DEPARTMENT OF JUSTICE

Office of Justice Programs

Agency Information Collection Activities; Proposed Collection; Comment Request

ACTION: Notice of information collection under review; (revision of a currently approved collection); Local Enforcement Block Grants Program, request for draw down.

The Department of Justice, Office of Justice Programs, Bureau of Justice Assistance, has submitted the following information collection request for review and clearance in accordance with the Paperwork Reduction Act of 1995. This proposed information collection is published to obtain comments from the public and affected agencies. Comments are encouraged and will be accepted for sixty days until April 24, 2000.

If you have additional comments, suggestions, or need a copy of the proposed information collection instrument with instructions or additional information, please contact Lluana McCann, 202-305-1772, Bureau of Justice Assistance, Office of Justice Programs, U.S. Department of Justice, 810 7th Street, NW, Washington,DC 20531.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information:

(1) Type of Information collection: Revision of a currently approved collection.

(2) The title of the form/collection: Local Law Enforcement Block Grants Program—Request for Drawdown (RFD).

(3) The agency form number, if any, and the applicable components of the Department sponsoring the collection: None.

(4) Affected public who will be asked or required to respond, as well as a brief abstract: Primary: State, Local or Tribal Government.

Other: None.

The Local Law Enforcement Block Grants (LLEBG) Act of 1996 authorizes the Director of the Bureau of Justice Assistance to make funds available to local units of government in order to reduce crime and improve public safety.

(5) An estimate of the total number of respondents and the amount of time estimated for an average respondent to respond/reply: It is estimated that 3,500 respondents will request the one lump-sum draw down of their annual LLEBG grant funds by completing the no more than sixty minutes on-line process.

(6) An estimate of the total public burden (in hours) associated with the collection: The total hour burden to complete the application is 3.500.

If additional information is required contact: Mrs. Brenda E. Dyer, Deputy Clearance Officer, United States Department of Justice, Information Management and Security Staff, Justice Management Division, Suite 1220, National Place Building, 1331 Pennsylvania Avenue, NW, Washington, D.C. 20530, or via facsimile at (202) 514-1534.

Dated: February 15, 2000.
Brenda E. Dyer,
Department Deputy Clearance Officer, United States Department of Justice.

[FR Doc. 00-4106 Filed 2-18-00; 8:45 am]

BILLING CODE 4410-18-M